INTERNATIONAL TRADE COMMISSION

[Investigation No. 701-TA-686 (Final)]

Brass Rod From India

Determination

On the basis of the record ¹ developed in the subject investigation, the United States International Trade Commission (“Commission”) determines, pursuant to the Tariff Act of 1930 (“the Act”), that an industry in the United States is materially injured by reason of imports of brass rod from India, provided for in subheadings 7407.21.15, 7407.21.30, 7407.21.70, and 7407.21.90 of the Harmonized Tariff Schedule of the United States, that have been found by the U.S. Department of Commerce (“Commerce”) to be subsidized by the government of India.2 3

¹ The record is defined in § 207.2(f) of the Commission's Rules of Practice and Procedure (19 CFR 207.2(f)).

² 88 FR 87407 (December 18, 2023).

³ Chairman David S. Johanson dissenting.

Background

The Commission instituted this investigation effective April 27, 2023, following receipt of a petitions filed with the Commission and Commerce by the American Brass Rod Fair Trade Coalition, Washington, District of Columbia; Mueller Brass Co., Port Huron, Michigan; and Wieland Chase LLC, Montpelier, Ohio. The Commission scheduled the final phase of the investigation following notification of a preliminary determination by Commerce that imports of brass rod from India were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of October 5, 2023 (88 FR 69229). The Commission conducted its hearing on December 12, 2023. All persons who requested the opportunity were permitted to participate.

The Commission made this determination pursuant to § 705(b) of the Act (19 U.S.C. 1671d(b)). It completed and filed its determination in this investigation on February 1, 2024. The views of the Commission are contained in USITC Publication 5485 (February 2024), entitled Brass Rod from India: Investigation No. 701-TA-686 (Final).

By order of the Commission.
Issued: February 1, 2024.
Lisa Barton,
Secretary to the Commission.

[FR Doc. 2024-02446 Filed 2-6-24; 8:45 am]

BILLING CODE 7020-02-P